FEDERAL COMMUNICATIONS COMMISSION

[OMB 3060-1127]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before March 7, 2016. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: OMB Control Number: 3060-1127.

Title: First Responder Identification Information in the Uniform Licensing System (ULS).

Form No.: FCC Form 601.

Type of Review: Extension of a previously approved collection.

Respondents: Business or other-for-profit; Not-for-profit institutions; State, local, or Tribal Government.

Number of Respondents and Responses: 133,095 respondents; 13,310 responses.

Estimated Time per Response: .25 hours.

Frequency of Response: One-time reporting requirement.

Obligation to Respond: Voluntary. Statutory authority for this information collection is contained in 47 U.S.C. 4(i), 154(i) and 0.191.

Total Annual Burden: 3,327 hours.

Total Annual Cost: None.

Nature and Extent of Confidentiality: To protect the identities and locations of key first responder communications personnel, the Commission will treat emergency contact information submitted into ULS pursuant to the Public Notice, DA-09-243, as confidential and will not make such information publicly available.¹ The contact information submitted into ULS by public safety licensees and non-public safety licensees designated as emergency first responders will be available only to Commission staff. Interested licensees should file their operational point of contact information in ULS in the form of a confidential pleading.

¹ 47 CFR 0.457.

Also, to protect the confidentiality, integrity and availability of the emergency contact information submitted pursuant to this collection, the Commission will ensure that the sensitive information is encrypted and properly stored.

Privacy Act Impact Assessment: No impact(s).

Needs and Uses: As part of its Universal Licensing System (ULS), the Commission seeks additional information from licensees. Specifically, the Commission seeks to request the following information from licensees:

(1) Whether the Public Safety or Commercial Licensee is identified by a state, county, and/or local emergency authority to provide “first responder” emergency services;

(2) What type of first responder the Public Safety or Commercial Licensee is identified as;

(3) The identity, by name and contact information, of the Public Safety or Commercial Licensee's designated point-of-contact; and

(4) The identity, by name and contact information, of the relevant state, county, and/or local emergency authority that designated the Public Safety or Commercial Licensee as a “first responder.”

This information will assist the Commission in providing quality assistance to first responders in the event of an emergency. With this information, the Commission will be able to enhance its targeted assistance to first responders in the affected areas.

Federal Communications Commission.
Sheryl D. Todd,
Deputy Secretary. Office of the Secretary.

[FR Doc. 2015-33238 Filed 1-5-16; 8:45 am]

BILLING CODE 6712-01-P